ENVIRONMENTAL PROTECTION AGENCY

40 CFR Part 52

[NM-36-1-7372a; FRL-7140-4]

Approval of Revision to State Implementation Plan; New Mexico; Doña Ana County State Implementation Plan for Ozone; Emission Inventory; Permits; Approval of Waiver of Nitrogen Oxides Control Requirements; Volatile Organic Compounds, Nitrogen Oxides, Ozone

AGENCY: Environmental Protection Agency (EPA).

ACTION: Direct final rule.

SUMMARY: The EPA is providing direct final approval of the New Mexico State Implementation Plan (SIP) for the Doña Ana County ozone nonattainment area. The area was designated nonattainment for ozone and classified as “marginal” in 1995. New Mexico submitted its SIP for the Doña Ana County area in 1997, requesting approval of the SIP, and requesting approval of a waiver of nitrogen oxides (NOX) requirements contained in section 182(f) of the Clean Air Act, as amended in 1990 (the Act). With this action the EPA is providing direct final approval of the Doña Ana County nonattainment area SIP and waiver of NOX requirements. The waiver for NOX requirements is granted because the area has attained the one-hour ozone standard without them, within the deadline prescribed by the Act.

DATES: This direct final rule will become effective on April 9, 2002 without further notice unless the EPA receives adverse comments by March 11, 2002. Should the EPA receive such comments, it will publish a timely document in the Federal Register withdrawing this rule and informing the public that this rule will not take effect.

ADDRESSES: Written comments on this action should be addressed to Mr. Thomas H. Diggs, Chief, Air Planning Section (6PD-L), at the EPA Region 6 Office listed below. Copies of documents relevant to this action are available for public inspection during normal business hours at the following locations. Anyone wanting to examine these documents should make an appointment with the appropriate office at least two working days in advance.

Environmental Protection Agency, Region 6, Air Planning Section (6PD-L), 1445 Ross Avenue, Dallas, Texas 75202-2733.

New Mexico Environment Depart, Air Quality Bureau, 1190 St. Francis Drive, Santa Fe, New Mexico 87502.

FOR FURTHER INFORMATION CONTACT: Mr. Matthew Witosky, Air Planning Section (6PD-L), Multimedia Planning and Permitting Division, EPA Region 6, 1445 Ross Avenue, Dallas, Texas 75202-2733, telephone (214) 665-7214, electronic mail WITOSKY.MATTHEW@EPA.GOV

SUPPLEMENTARY INFORMATION:

I. Background

Throughout this document, the EPA uses the word “we,” “us,” or “our,” to mean the EPA. The information in this section is organized as follows.

1. What action is the EPA taking today?

2. Why is this necessary?

3. What part of New Mexico is affected?

4. What part of the SIP is being approved?

a. Emission inventory (EI).

b. Emission Certification Statement in Emission Reports.

c. NSR permit program for the construction and operation of new and modified major stationary sources of VOC (section 172(c)(5) of the Act)

5. Does the SIP submitted contain a motor vehicle emissions budget for on-road emissions of volatile organic compounds (VOC's) for transportation conformity purposes?

6. What is a waiver of NOX control requirements?

7. Why is the Doña Ana County area being granted a NOX waiver?

8. How long is the waiver of NOX requirements valid?

9. What process did the State use to approve the SIP and the NOX waiver?

10. Did EPA make an exception for Doña Ana County under section 179B(a) of the Act, because the area borders Mexico?

II. Final Action

III. Administrative Requirements

I. Background

1. What Action is the EPA Taking Today?

EPA is approving a revision to the New Mexico SIP, for the Doña Ana County (marginal) ozone nonattainment area. A portion of Doña Ana County was designated nonattainment for the National Ambient Air Quality Standards (NAAQS) for ozone (see 40 CFR 81.332). The SIP contains four elements that were adopted by the State to meet the requirements of the Act. EPA is approving three of these elements in this action. The fourth element, revisions to the transportation conformity rule, (see 65 FR 14873) was approved March 20, 2000. By approving these final three elements, the EPA is approving the Doña Ana County SIP. With final approval of this action, the State has met all the requirements that apply to Doña Ana county under the one-hour ozone standard. The EPA is also approving a waiver of NOX control requirements established under section 182(f); the authority for EPA to waive these requirements is likewise under section 182(f).

2. Why is This Necessary?

The EPA designated the area as nonattainment, and classified it as “marginal” due to violations of the ozone standard during 1993, 1994, and 1995 (see 60 FR 30789, June 12, 1995). That action imposed certain requirements under the Act to reduce pollution in order to bring the area back into attainment of the ozone standard. New Mexico has adopted the appropriate regulations, submitted them to EPA for review and approval, and implemented them. Under the Act, the EPA must approve these regulations and other actions into the existing federally-approved State Implementation Plan (SIP), to make them federally enforceable.

3. What part of New Mexico is Affected?

The Doña Ana County nonattainment area encompasses the community of Sunland Park, and several smaller communities adjacent to El Paso, Texas, and Ciudad Juarez, Mexico. (See 40 CFR 81.332)

4. What Part of the SIP is Being Approved?

The Doña Ana County SIP constitutes a revision to New Mexico's overall SIP, adopted prior to the 1990 Amendments to the Act. The Doña Ana County SIP is made up of four components, three of which the EPA will approve in this action.

a. Emission inventory (EI),

b. Emission Certification Statement,

c. Revisions to new source review (NSR), The fourth component, Revisions to the transportation conformity rule, was approved in a previous action (see 65 FR 14873, March 20, 2000).

a. Emission Inventory (EI)

New Mexico completed a comprehensive, accurate, and current inventory of actual emissions from all sources of relevant pollutants in the nonattainment area. The State used 1995 as the base year for the inventory, using a three-month ozone season of August through October, 1995. Stationary point sources, area sources, on-road mobile sources, non-road mobile sources, and biogenic sources of ozone precursors, VOC's and NOX were included in the inventory. The New Mexico Environment Department (NMED) included stationary sources with emissions greater than 100 tons per year (tpy) within a 25-mile range of the nonattainment area.

For a listing of the ozone peak season daily emissions estimates by source category, please see the docket file for this rulemaking action.

EPA reviewed the emissions inventory submitted by the State, and the methodology used to generate it. EPA verified that the State followed EPA's emission inventory guidance in developing the inventory. Please see the docket file for more information on the inventory.

For calendar year 1998 and for each three-year period thereafter (until the area is redesignated to attainment), NMED will be required to submit to EPA a revised inventory meeting the requirements of sections 182(a)(1) and 182(a)(3) of the CAA.

b. Emission Certification Statement in Emission Reports

Section 182(a) of the Act requires that States insert an emission certification requirement into their regulations. That means the owner or operator of each stationary source of NOX or VOC must provide the State with a written report tallying the actual emissions of NOX and VOC from that source. The first such reports had to be submitted to the State within three years after the effective date of the final action establishing the nonattainment designation, July 12, 1998.

Subsequent reports must be submitted at least every year thereafter. All reports must contain a certification that the information submitted is accurate to the best knowledge of the individual certifying the statement.

New Mexico revised 20 NMAC, chapter 2, part 73, to meet these requirements. Subpart III, sections 300 to 304, contain the detailed reporting requirements for sources affected by the regulation. These sections will be incorporated by reference into the approved SIP. See the docket file for the actual text of the regulation.

c. NSR Permit Program for the Construction and Operation of New and Modified Major Stationary Sources of VOC (section 172(c)(5) of the Act)

Prior to designation as nonattainment, New Mexico operated an air permit program in Doña Ana County, under New Mexico Air Code (NMAC) part 72—Construction Permits and part 74—Prevention of Significant Deterioration (see generally the Act, sections 110(a) (2)(c) and sections 160-169). After designation to nonattainment, new major sources and major modifications of VOC sources in the nonattainment area of Doña Ana County were required ¹ to be permitted under part 79—Permits-Nonattainment areas, under revised 20 NMAC, chapter 2, part 79, section 112.C.1, to meet the marginal nonattainment offset requirements of section 182 (a)(4). Section 112.C.1 sets the ratio of offsets required of new or modified sources in such areas. Subsequent sections outline the procedure for calculating the baseline from which offsets will be obtained, how to calculate actual offset emissions, and how to bank them. Section 112.C.1 will be incorporated by reference into the approved SIP. See the docket file for the actual text of the regulation.

¹ See generally 172(c)(5) and 173(c). New major sources and major modifications which increase emissions of pollutants other than VOC continue to be subject to the permitting requirements under part 74. New and modified sources which are not major under part 74 and part 79 continue to be subject to the permitting requirements under part 72.

5. Does the SIP Submitted Contain a Motor Vehicle Emissions Budget for On-Road Emissions of Volatile Organic Compounds (VOC's) for Transportation Conformity Purposes?

The SIP submitted by the State does not contain an MVEB. Although the area is subject to the transportation conformity requirements, as are all nonattainment and maintenance areas, the State has directed the planning agency responsible for transportation planning in Sunland Park to perform all necessary conformity analyses using the build/no-build test (see 40 CFR 93.119). The El Paso Metropolitan Planning Organization is the agency that currently performs this analysis for the Sunland Park area. The build/no-build test is an acceptable method to meet the transportation conformity requirements under 40 CFR 93.109(c)(4)(i).

6. What is a waiver of NOX Control Requirements?

Under the Act, marginal and certain other ozone nonattainment areas are required to control NOX emissions, as well as VOC emissions, the two main precursors for ozone. However, some areas can forego the additional control of NOX, and still attain the standard. Still other areas have shown that NOX reductions in their areas do not reduce ozone concentrations. For these areas, the EPA is allowed to waive the control requirements on NOX by rulemaking action. This is called a NOX waiver rule (See generally 182(f) and the NOX preamble, 57 FR 55620, November 25, 1992).

7. Why is Doña Ana County Being Granted a NOX Waiver?

The State requested a NOX waiver when they submitted their SIP in 1997. The area is being given a NOX waiver because the area has attained the standard by relying on reductions of only VOC emissions. Under the provisions of section 182(f), the EPA Administrator may waive the NOX requirements because additional reductions would not contribute to attainment of the one-hour ozone standard (see 182(f)(A)). The EPA has sufficient data proving the area is monitoring attainment. Any NOX reductions that would otherwise be required under section 182, would be beyond the reductions needed for attainment. Hence, the EPA is honoring the State's request for a waiver of the NOX requirements. Doing so does not affect the requirements for control of VOC's. The State has not requested that EPA redesignate the area to attainment at this time.

In the case of Doña Ana County, which is classified marginal for ozone, granting its request will waive requirements applicable under the Act; NOX requirements under the nonattainment new source review program, including offsets; the NOX requirements of general conformity, as well as the NOX requirements of the build/no-build provisions of the transportation conformity rules. For transportation conformity, see 58 FR 62188 published on November 24, 1993, as amended, and 60 FR 44790, and 44794 of August 29, 1995. See also 59 FR 31238 published June 17, 1994. For general conformity, see 58 FR 63214 published on November 30, 1993, and 59 FR 31239, June 17, 1994.

8. How Long is the Waiver of NOX Requirements Valid?

The EPA believes that all waivers of section 182(f) requirements that are approved, should be approved only on a contingent basis. If the area exceeds the one-hour ozone standard in the future, the EPA would re-evaluate all available data and modeling to determine the continuing validity of our decision to grant the NOX waiver. An exceedence of the standard, in and of itself, would not compel EPA to rescind the waiver. That said, compelling air quality data or modeling evidence that reductions in NOX would reduce the number or severity of ozone violations in the Doña Ana County area, would be justification to rescind the waiver.

9. What Process did the State use to Approve the SIP and the NOX Waiver?

Under the authority of section 107(d)(3) of the Act, the EPA designated the area as a marginal ozone nonattainment area on June 12, 1995 (see 60 FR 30789, June 12, 1995).

The Act requires states to observe certain procedural requirements in developing implementation plans and plan revisions for submission to EPA in response to such a designation. Section 110(a)(2) of the Act provides that each implementation plan submitted by a State must be adopted after reasonable notice and public hearing. See also section 110(l) of the Act. Also, EPA must determine whether a submittal is complete and, therefore, warrants further EPA review and action. See section 110(k)(1) and 57 FR 13565. EPA's completeness criteria for SIP submittals are set out at 40 CFR part 51.

The SIP package was received on October 8, 1997. The submittal included a Governor's letter dated September 24, 1997, a certification of public hearing with the hearing record, and copies of the rules adopted to fulfill the requirements of the Act. The certificate of public hearing showed that public hearings were held on July 11, 1997, to entertain public comment on a revision of the SIP. Following the public hearing, this revision was adopted by the State on August 8, 1997, and submitted to the EPA as a proposed revision to the SIP. This submittal is necessary to satisfy the requirements of sections 182(a) and 179B of the Act. The State adopted the request for a NOX waiver and the SIP at the same time, and submitted them together.

The SIP revision was reviewed by EPA to determine completeness, in accordance with the completeness criteria referenced above. A letter dated December 24, 1997, was forwarded to the Governor indicating the SIP was complete. This direct rulemaking notice would constitute final action by EPA to approve the SIP and NOX waiver submissions.

10. Did EPA make an exception for Doña Ana County Under Section 179B(a) of the Act, Because the Area Borders Mexico?

EPA does not have to justify its approval of the SIP under section 179B, because the area is monitoring attainment and has met the other applicable nonattainment requirements of the Act.

Section 179B(a)(2) of the Act contains provisions under which EPA can approve SIP revisions that meet all the applicable requirements for a nonattainment area, even though the area has not achieved attainment. In doing so, EPA must have evidence that the failure to attain the standard is due to the contribution of emissions originating from outside the United States.

In addition to authorizing waivers of the requirement to demonstrate attainment, section 179B(a) also allows an area affected by emissions from outside the United States to avoid being reclassified or “bumped up” to the next higher classification because of its inability to demonstrate attainment. Without such a waiver, the area would be compelled to implement more rigorous control requirements. The EPA has granted such approvals in cases that demonstrate the area would be in attainment of a standard, but for emissions from outside the United States. For example, this was done for El Paso, in approving their PM-10 SIP (see 59 FR 2532, January 19, 1994).

When New Mexico submitted the Doña Ana County SIP to the EPA, the area had not yet attained the one-hour ozone standard. Since that time, the area has attained the standard, by accumulating three consecutive years of quality-assured ambient air data showing no violations of the standard. The most recent data provided by the State of New Mexico, available through the EPA Aerometric Information and Retrieval Service (AIRS) demonstrates that the area continues to attain the one-hour standard. New Mexico has recorded three consecutive years of valid data in the area showing that ozone readings meet the standard.

Since the area has been able to demonstrate it is attaining the one-hour ozone standard, EPA does not need to use the flexibility allowed under section 179B at this time. Similarly, because the area is now attaining the ozone NAAQS, the provisions of section 179B are not needed to insulate the area from the possibility of reclassification. However, the State has provided EPA with evidence indicating that the nonattainment area is influenced by ozone precursor emissions from El Paso, Texas, and Ciudad Juarez, Mexico—a much larger metropolitan region that continues to suffer ozone exceedences. The State is concerned that these other areas could affect air quality in the Doña Ana County nonattainment area in the future and interfere with its current attainment status. Indeed, because the potential for the area to fall out of attainment due to pollution impacts from these adjoining areas cannot be discounted, the State has informed the EPA that it does not intend to seek to formally redesignate the Doña Ana County nonattainment area to attainment under section 107(d)(3)(e) at this time.

Since the situation envisioned by Congress when it enacted section 179B is not now occurring in the Doña Ana County nonattainment area, there is no basis for the EPA to evaluate and/or make a determination at this time regarding the applicability of that section. If the State's fears about the impact of regional emissions are subsequently realized, and ozone concentrations violate the standard, the State will need to analyze and submit any air quality information available in support of their approved SIP and NOX waiver. This information would be necessary for the EPA to apply 179B of the Act in this context.

II. Final Action

The EPA is approving New Mexico's request for approval of a revision to the State Implementation Plan for New Mexico. This revision is the implementation plan for the Doña Ana County ozone nonattainment area. The revision contains an inventory of actual emissions from all sources, a state regulation requiring that sources covered by the regulation certify the actual emissions of NOX and VOC, and a revised nonattainment new source review permitting program meeting the requirements of sections 172(c)(5) and 173 of the Act.

The EPA is also approving a waiver of NOX control requirements, because the area has attained the standard without them.

The EPA is publishing this rule without prior proposal because we view its contents as noncontroversial and anticipate no adverse comments, because this action approves State regulations in place at the State level for some time, into the Federally approved SIP. However, in the “Proposed Rules” section of today's Federal Register publication, we are publishing a separate document that will serve as the proposal to approve the SIP if adverse comments are received. This rule will be effective on April 9, 2002 without further notice unless we receive adverse comment by March 11, 2002. If EPA receives adverse comments, we will publish a timely withdrawal in the Federal Register informing the public that the rule will not take effect. We will address all public comments in a subsequent final rule based on the proposed rule. We will not institute a second comment period on this action. Any parties interested in commenting must do so at this time.

III. Administrative Requirements

A. Executive Order 12866

The Office of Management and Budget (OMB) has exempted this regulatory action from Executive Order 12866, entitled “Regulatory Planning and Review.”

B. Executive Order 13045

Protection of Children from Environmental Health Risks and Safety Risks (62 FR 19885, April 23, 1997), applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This rule is not subject to Executive Order 13045 because it does not involve decisions intended to mitigate environmental health or safety risks.

C. Executive Order 13132

Federalism (64 FR 43255, August 10, 1999) revokes and replaces Executive Orders 12612 (Federalism) and 12875 (Enhancing the Intergovernmental Partnership). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by State and local governments, or EPA consults with State and local officials early in the process of developing the proposed regulation. EPA also may not issue a regulation that has federalism implications and that preempts State law unless the Agency consults with State and local officials early in the process of developing the proposed regulation.

This rule will not have substantial direct effects on the States, on the relationship between the national government and the States, or on the distribution of power and responsibilities among the various levels of government, as specified in Executive Order 13132, because it merely approves a state rule implementing a federal standard, and does not alter the relationship or the distribution of power and responsibilities established in the Clean Air Act. Thus, the requirements of section 6 of the Executive Order do not apply to this rule.

D. Executive Order 13175

This final rule does not have tribal implications. It will not have substantial direct effects on tribal governments, on the relationship between the Federal government and Indian tribes, or on the distribution of power and responsibilities between the Federal government and Indian tribes, as specified in Executive Order 13175. Thus, Executive Order 13175 does not apply to this rule.

E. Executive Order 13211

This rule is not subject to Executive Order 13211, “Actions Concerning Regulations That Significantly Affect Energy Supply, Distribution, or Use” (66 FR 28355, May 22, 2001) because it is not a significant regulatory action under Executive Order 12866.

F. Regulatory Flexibility

The Regulatory Flexibility Act (RFA) generally requires an agency to conduct a regulatory flexibility analysis of any rule subject to notice and comment rulemaking requirements unless the agency certifies that the rule will not have a significant economic impact on a substantial number of small entities. Small entities include small businesses, small not-for-profit enterprises, and small governmental jurisdictions.

This rule will not have a significant impact on a substantial number of small entities because SIP approvals under section 110 and subchapter I, part D of the Clean Air Act do not create any new requirements but simply approve requirements that the State is already imposing. Therefore, because the Federal SIP approval does not create any new requirements, I certify that this action will not have a significant economic impact on a substantial number of small entities. Moreover, due to the nature of the Federal-State relationship under the Clean Air Act, preparation of flexibility analysis would constitute Federal inquiry into the economic reasonableness of state action. The Clean Air Act forbids EPA to base its actions concerning SIPs on such grounds. Union Electric Co., v. U.S. EPA, 427 U.S. 246, 255-66 (1976); 42 U.S.C. 7410(a)(2).

G. Unfunded Mandates

Under sections 202 of the Unfunded Mandates Reform Act of 1995 (“Unfunded Mandates Act”), signed into law on March 22, 1995, EPA must prepare a budgetary impact statement to accompany any proposed or final rule that includes a Federal mandate that may result in estimated costs to State, local, or tribal governments in the aggregate; or to the private sector, of $100 million or more. Under section 205, EPA must select the most cost-effective and least burdensome alternative that achieves the objectives of the rule and is consistent with statutory requirements. Section 203 requires EPA to establish a plan for informing and advising any small governments that may be significantly or uniquely impacted by the rule.

EPA has determined that the approval action promulgated does not include a Federal mandate that may result in estimated costs of $100 million or more to either State, local, or tribal governments in the aggregate, or to the private sector. This Federal action approves pre-existing requirements under State or local law, and imposes no new requirements. Accordingly, no additional costs to State, local, or tribal governments, or to the private sector, result from this action.

H. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This rule will be effective April 9, 2002 unless EPA receives adverse written comments by March 11, 2002.

I. National Technology Transfer and Advancement Act

Section 12 of the National Technology Transfer and Advancement Act (NTTAA) of 1995 requires Federal agencies to evaluate existing technical standards when developing a new regulation. To comply with NTTAA, EPA must consider and use “voluntary consensus standards” (VCS) if available and applicable when developing programs and policies unless doing so would be inconsistent with applicable law or otherwise impractical.

The EPA believes that VCS are inapplicable to this action. Today's action does not require the public to perform activities conducive to the use of VCS.

J. Petitions for Judicial Review

Under section 307(b)(1) of the Clean Air Act, petitions for judicial review of this action must be filed in the United States Court of Appeals for the appropriate circuit by April 9, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Hydrocarbons, Incorporation by reference, Intergovernmental relations, Nitrogen dioxide, Volatile Organic Compounds, Ozone, Reporting and recordkeeping requirements.

Dated: February 1, 2002.
Christine Todd Whitman,
Administrator.

Part 52, chapter I, title 40 of the Code of Federal Regulations is amended as follows:

PART 52—[AMENDED]

1. The authority citation for part 52 continues to read as follows:

Authority: 42 U.S.C. 7401 et seq.

Subpart GG—New Mexico

2. Section 52.1620 is amended as follows:

a. In the table in paragraph (c) entitled “EPA Approved New Mexico Regulations” under the heading “New Mexico Administrative Code (NMAC) Title 20—Environmental Protection Chapter 2—Air Quality” by revising the entries for part 73 and part 79;

b. In the table in paragraph (e) entitled “EPA Approved Nonregulatory Provisions and Quasi-Regulatory Measures in the New Mexico SIP” by adding to the end of the table an entry entitled “Waiver of NOX control requirements.”

The revisions and addition read as follows:

§ 52.1620 Identification of plan.

* * * * *

(c) * * *

EPA Approved New Mexico Regulations
State citation | Title/subject | State approval/effective date | EPA approval date | Comments
New Mexico Administrative Code (NMAC) Title 20—Environmental Protection Chapter 2—Air Quality
* * * * * * *
Part 73 | Notice of Intent and Emmissions Inventory Requirements. | 10-01-97 | [February 8, 2002 and FR page number]
* * * * * * *
Part 79 | Permits—Nonattainment Areas | 10-01-97 | [February 8, 2002 and FR page number]
* * * * * * *

(e) * * *

EPA Approved Nonregulatory Provisions and Quasi-Regulatory Measures in the New Mexico SIP
Name of SIP provision | Applicable geographic or nonattainment area | State submittal/effective date | EPA approval date | Explanation
* * * * * * *
Waiver of NOX control requirements. | Doña Ana County (part), marginal ozone nonattainment area | 10-01-97 | [February 8, 2002 and FR page number]

[FR Doc. 02-3103 Filed 2-7-02; 8:45 am]

BILLING CODE 6560-50-P